NUCLEAR REGULATORY COMMISSION

10 CFR Chapter I

[NRC-2020-0125]

RIN 3150-AK48

Miscellaneous Corrections

AGENCY: Nuclear Regulatory Commission.

ACTION: Final rule, correction.

SUMMARY: The U.S. Nuclear Regulatory Commission (NRC) is correcting a final rule that appeared in the Federal Register on October 16, 2020. The NRC is amending its regulations to make miscellaneous corrections. These changes include redesignating footnotes, correcting references, typographical errors, nomenclature, titles, email addresses, and contact information. This action is necessary to correct an error that appeared in Instruction 8 of the final rule.

DATES: This correction is effective on November 16, 2020.

ADDRESSES: Please refer to Docket ID NRC-2020-0125 when contacting the NRC about the availability of information for this action. You may obtain publicly-available information related to this action by any of the following methods:

• Federal Rulemaking Website: Go to https://www.regulations.gov and search for Docket ID NRC-2020-0125. Address questions about NRC dockets to Carol Gallagher; telephone: 301-415-3463; email: Carol.Gallagher@nrc.gov.

• NRC's Agencywide Documents Access and Management System (ADAMS): You may obtain publicly-available documents online in the ADAMS Public Documents Collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• Attention: The Public Document Room (PDR), where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Jill Shepherd, Office of Nuclear Material Safety and Safeguards, U.S. Nuclear Regulatory Commission, Washington, DC 20555-0001; telephone: 301-415-1230, email: Jill.Shepherd@nrc.gov.

SUPPLEMENTARY INFORMATION: The NRC is correcting FR Doc. 20-21148, a final rule that published in the Federal Register on October 16, 2020 (85 FR 65656).

On page 65661, second column, sixth paragraph, revise Instruction 8, to read as follows “In § 20.1906, revise the introductory text of paragraph (d) to read as follows:”.

Dated October 19, 2020.
For the Nuclear Regulatory Commission.
Cindy K. Bladey,
Chief, Regulatory Analysis and Rulemaking Support Branch, Division of Rulemaking, Environmental, and Financial Support, Office of Nuclear Material Safety and Safeguards.

[FR Doc. 2020-23520 Filed 10-27-20; 8:45 am]

BILLING CODE 7590-01-P